DEPARTMENT OF COMMERCE

National Oceanic and Atmospheric Administration

50 CFR Part 635

[Docket No. 070307055-7055-01; I.D. 022607F]

RIN 0648-AV25

Atlantic Highly Migratory Species (HMS); U.S. Atlantic Billfish Tournament Management Measures

AGENCY: National Marine Fisheries Service (NMFS), National Oceanic and Atmospheric Administration (NOAA), Commerce.

ACTION: Proposed rule; request for comments.

SUMMARY: NMFS proposes to temporarily suspend circle hook requirements for anglers participating in Atlantic billfish tournaments. The final rule implementing the Final Consolidated HMS Fishery Management Plan (FCHMS FMP) published in the Federal Register on October 2, 2006, and restricted anglers fishing from HMS permitted vessels and participating in Atlantic billfish tournaments to deploying only non-offset circle hooks when using natural baits or natural bait/artificial lure combinations, effective 12:01 am, January 1, 2007. The purpose of the final rule was to reduce post-release mortality of Atlantic billfish and other species with which billfish tournament anglers may interact. NMFS has continued to receive public comment since publication of the Final CHMS FMP regarding the perceived impacts of the billfish tournament non-offset circle hook requirement. The objective of this proposed rulemaking is to increase post-release survival of Atlantic billfishes by improving long-term compliance with billfish tournament non-offset circle hook regulations.

DATES: Written comments on the proposed rule must be received by March 30, 2007.

ADDRESSES: Written comments on the proposed rule or the Draft Environmental Assessment (Draft EA) may be submitted to Russell Dunn or Randy Blankinship, Fisheries Management Specialists, Highly Migratory Species Management Division, using any of the following methods:

• E-mail: 0648-AV25@noaa.gov Please include the following in the subject line: “Comments on Proposed Billfish Circle Hook Rule.”

• Mail: NOAA/NMFS HMS Management Division, 263 13th Avenue South, St. Petersburg, FL 33701. Please mark the outside of the envelope “Comments on Proposed Billfish Circle Hook Rule”.

• Fax: 727-824-5398.

• Federal e-Rulemaking Portal: http://www.regulations.gov. Include in the subject line the following identifier: “I.D. 022607F.”

The hearing locations are:

1. March 27, 2007 from 7 - 9 p.m. Worcester County Library, Snow Hill Branch, 307 North Washington Street, Snow Hill, Maryland, 21863.

2. March 28, 2007 from 7 - 9 p.m. Broward County Library, Main Library, 100 South Andrews Avenue, Ft. Lauderdale, FL 33301.

3. March 29, 2007 from 7 - 9 p.m. Carteret Community College, Joslyn Hall, H.J. McGee, Jr. Building, 3505 Arendell Street, Morehead City, NC 28557-2989.

Copies of the Draft EA, the 2006 FCHMS FMP and other relevant documents are available from the Highly Migratory Species Management Division website at http://www.nmfs.noaa.gov/sfa/hms or by contacting Russell Dunn or Randy Blankinship (see FOR FURTHER INFORMATION CONTACT).

FOR FURTHER INFORMATION CONTACT: Russell Dunn or Randy Blankinship, by phone: 727-824-5399; by fax: 727-824-5398.

SUPPLEMENTARY INFORMATION:

Background

The U.S. recreational fishery for Atlantic billfish is managed under the Consolidated HMS FMP. Implementing regulations at 50 CFR part 635 are issued under the authority of the Magnuson-Stevens Fishery Conservation and Management Act (Magnuson-Stevens Act)(16 U.S.C. 1801 et seq.), and the Atlantic Tunas Convention Act (ATCA) (16 U.S.C. 971 et seq.).

Atlantic billfish management strategies have been guided by international and domestic considerations and mechanisms since the 1970s. Domestic management of Atlantic billfish resources has been developed, modified, and implemented in four primary stages and through a series of other rulemakings. In January 1978, NMFS published the Preliminary Fishery Management Plan (PMP) for Atlantic Billfish and Sharks (43 FR 3818), which was supported by an EIS (42 FR 57716). This PMP was developed and implemented under the authority of the Secretary of Commerce.

Building upon the PMP for Atlantic Billfish and Sharks was the Fishery Management Plan for the Atlantic Billfishes (53 FR 21501). This plan was jointly developed by five Atlantic regional fishery management councils (Caribbean, Gulf, South Atlantic, Mid-Atlantic, New England) and implemented in October 1988 (53 FR 37765). The 1988 FMP defined the Atlantic billfish management unit to include sailfish from the western Atlantic Ocean, white marlin and blue marlin from the North Atlantic Ocean, and longbill spearfish from the entire Atlantic Ocean; described objectives for the Atlantic billfish fishery; and established management measures to achieve the objectives.

Atlantic blue and white marlin were identified as overfished in 1997 and Atlantic sailfish were identified as overfished in 1998. In response to Magnuson-Stevens Act requirements, and concurrent with efforts to develop the 1999 FMP for Atlantic Tunas, Swordfish, and Sharks, NMFS prepared Amendment One to the Atlantic Billfish Fishery Management Plan and published final regulations on May 28, 1999 (64 FR 29090). Amendment One maintained the objectives of the original 1988 Billfish FMP and identified a number of additional objectives. On Oct. 2, 2006 (71 FR 58057), NMFS issued the final rule implementing the Final Consolidated HMS FMP. That document amended and consolidated the objectives and management measures of the Atlantic Billfish Fishery FMP with those of the 1999 Atlantic Tunas, Swordfish, and Sharks FMP, among other actions.

The recent biomass level of Atlantic blue marlin most likely remains well below the level necessary to produce the maximum sustainable yield (Bmsy) that was estimated in 2000. Current and provisional estimates suggest that the fishing mortality rate (F) has recently declined and is possibly smaller than Freplacement, but larger than the Fmsy estimated in the 2000 assessment. Over the period 2001 - 2005, several abundance indicators suggest that the decline in biomass has been at least partially arrested, but some other indicators suggest that abundance has continued to decline.

The 1996, 2000, and 2002 stock assessments for white marlin all indicated that biomass of white marlin has been below Bmsy for more than two decades and the stock is overfished. The recent biomass of Atlantic white marlin most likely remains well below the Bmsy estimated in the 2002 assessment. Current and provisional estimates suggest that F is probably smaller than Freplacement and probably also larger than the Fmsy estimated in the 2002 assessment. Over the period 2001-2004, combined longline indices and some individual fleet indices suggest that the decline has been at least partially reversed, but some other individual fleet indices suggest that abundance has continued to decline.

In 2002, the United States undertook a status review of white marlin pursuant to the Endangered Species Act (ESA). The status review team determined that white marlin stock status did not warrant a listing at that time. NMFS was subsequently sued with regard to its determination not to list Atlantic white marlin as endangered at that time. In accordance with a court approved settlement agreement, NMFS has initiated a second ESA listing review for Atlantic white marlin that will be completed by December 31, 2007.

Prior to January 1, 2007, the recreational Atlantic billfish fishery was subject to regulations that required fishing permits, limited allowable gears to rod and reel only, established minimum legal size limits, specified landing form of retained billfish, mandated reporting of billfish landings, required registration of all recreational HMS fishing tournaments and reporting by tournaments that are selected for reporting, prohibited the retention of longbill spearfish, and prohibited sale of any billfish, among others. The final rule implementing the FCHMS FMP (October 2, 2006; 71 FR 58058) implemented additional regulations that applied to the Atlantic recreational billfish fishery. These regulations became effective January 1, 2007, and limited U.S. landings of Atlantic blue and white marlin to 250 individual fish, combined, on an annual basis. The final rule also implemented regulations that require anglers fishing from HMS permitted vessels and participating in Atlantic billfish tournaments to use only non-offset circle hooks when deploying natural baits or natural bait/artificial lure combinations. These regulations allow the use of traditional J-hooks with artificial lures in tournaments, and do not impose hook requirements on recreational fishermen fishing outside of Atlantic billfish tournaments.

NMFS implemented circle hook regulations in the FCHMS FMP consistent with the objectives of the FMP, including reducing post-release mortality of Atlantic billfish. Atlantic billfish tournament circle hook requirements were determined to be an effective mechanism to target a known source of billfish mortality in the directed recreational marlin fishery. Recent studies have shown that circle hooks can substantially reduce injury and post-hooking mortality of Atlantic billfish and other species relative to J-hooks. Horodysky and Graves (2005) found that circle hooks can reduce post-release mortality of white marlin by 65.7 percent relative to J-hooks. They also found that white marlin caught on J-hooks are 41 times more likely to be deeply hooked and 15 times more likely to sustain hook-induced trauma resulting in bleeding relative to fish caught on circle hooks. Prince et al. (2002), found similar results pertaining to sailfish. Prince et al., also found no statistical difference in catch per unit of effort between circle hooks and J-hooks when fishing for blue marlin. Cooke and Suski (2004) analyzed the results of more than 40 circle hook studies examining both marine and fresh water species. For all species examined, they found that mortality rates were approximately 50 percent lower when using circle hooks relative to J-hooks. During the analysis of the FCHMS FMP, NMFS found that between 1999 and 2004, the number of Atlantic white marlin released alive during tournaments ranged from a low of 614 to a high of 2,207. Based on an estimated 35 percent post-release mortality rate for white marlin caught on J-hooks (Horodysky and Graves, 2005), this would equate to between 215 and 773 Atlantic white marlin that would not be expected to survive the catch and release experience. Applying an estimated 12 percent post-release mortality rate for white marlin caught on circle hooks (Horodysky and Graves, 2005) to the same number of released white marlin, this would equate to between 74 and 265 Atlantic white marlin that would not be expected to survive the catch and release experience. The difference between the two indicated a potential ecological benefit of between 141 and 508 Atlantic white marlin surviving the catch and release experience if anglers used circle hooks in tournaments rather then J-hooks.

NMFS has continued to receive public comment on the perceived impacts of the billfish tournament circle hook requirement contained in the FCHMS FMP since release of that document in July of 2006. This included comments by anglers indicating that circle hooks will not work well for catching blue marlin; expressing a desire by anglers to continue using J-hooks while fishing for Atlantic blue marlin in tournaments; and noting that deploying J-hooks on mixed-baits with heavy fishing gear was an effective and popular technique employed by anglers during fishing tournaments. Comments also stated that fishing for billfish with J-hooks trolled at high speeds with heavy tackle did not result in high post-release hooking mortalities of Atlantic billfish species. Finally, some commenters supported full implementation of tournament circle hook requirements. In response to these concerns, NMFS considered development of an exempted fishing permit (EFP) program to collect additional data on this fishing activity in billfish tournaments. Comments received on the development of an EFP program to collect data within billfish tournaments expressed concern over the difficulty of standardizing fishing gear type and use in a tournament setting; concern over the quality of data collected in a tournament setting; and the scientific applicability of such data given the fishing characteristics of tournaments (fast paced activity, focus on catching and retaining specific species and/or size classes, and varying tournament rules), among others. Finally, comments were received that expressed a general lack of support for conducting research and/or data.

Based on public comment, NMFS has since determined that the collection of data to evaluate the impacts of J-hooks and heavy tackle on Atlantic blue marlin during billfish tournaments would be problematic because of the varying conditions and methodologies discussed above that would likely occur within and between tournaments, among others. For these reasons, NMFS chose not to issue EFPs to Atlantic billfish tournaments (72 FR 4691; February 1, 2007). Available data indicate that hook type (circle hook versus J-hook) is not a major factor influencing catch rates of blue marlin. Nevertheless, many anglers believe circle hooks to be ineffective and that J-hooks can be deployed in a manner resulting in low post-release mortality. The result has been strong resistance to implementation of circle hooks in certain circumstances and regions. Available studies clearly demonstrate the benefits of circle hooks for billfish and other species, and NMFS believes that concerns over the effectiveness of circle hooks when fishing for Atlantic blue marlin, as well as resistance to their use by tournament anglers, can be overcome as anglers become more familiar and proficient with them.

In this action, NMFS proposes to temporarily suspend existing regulations that require Atlantic billfish tournament participants who are fishing from HMS permitted vessels and deploying natural bait or natural bait/artificial lure combinations to use non-offset circle hooks. The preferred alternative is intended to increase post-release survival of Atlantic billfishes by improving long-term compliance with circle hook regulations. To accomplish this, the proposed rule would provide additional time for recreational billfish tournament anglers to become more familiar and proficient with circle hooks and increase awareness among tournament anglers of circle hook conservation benefits. NMFS has received input from numerous anglers and tournament operators who voluntarily switched to using circle hooks prior to the existing tournament requirement who now indicate a strong preference for circle hooks over J-hooks based on conservation benefits and who claim a lower rate of lost fish on circle hooks. Based on the economic incentives discussed above, the input from experienced billfish anglers who have acquired expertise with circle hooks, and existing studies (Prince et al., 2002) indicating that hook type (circle hook vs. J-hook) is not a significant factor in catchability of Atlantic blue marlin, NMFS is confident that the concerns of anglers regarding the effectiveness of circle hooks for catching blue marlin and the resistance to using circle hooks stemming from preconceived ideas of circle hook efficacy and a lack of experience with circle hooks will be overcome if anglers are given more time to become familiar and proficient with them through an additional phase-in period.

Fishing techniques vary by species, region, time of day, weather conditions, type of gear and bait deployed, and numerous other factors. There are significant differences in the techniques employed by fishermen when using J-hooks or circle hooks. Two examples are the technique of “setting the hook” with J-hooks and baiting techniques. With J-hooks, anglers are taught to “set the hook” at a given time by jerking hard on the pole and line. This action is meant to drive the point of the J-hook deep into the flesh of the fish to help ensure that the fish cannot escape by throwing the hook loose during the fight. With circle hooks, setting the hook is ineffective because of the hook shape and is a technique that often leads to a loss of the fish. Anglers must not set the hook, but rather wait for the fish to hook itself. This is a significant change in fishing technique for virtually all anglers and learning the subtleties of effective circle hook fishing can take a significant amount of practice. Baiting techniques or configurations can substantially vary between J-hooks and circle hooks. One example is with J-hooks, fishermen may bury the J-hook in the body of the bait, with only the point exposed through a slit in the stomach. With circle hooks, the hook must be free of obstructions and is thus sometimes attached to a halter made of fishing line above the head of a bait by rubber bands. Baiting techniques for circle hooks vary by bait species and target species. It may take a substantial amount of time for anglers to learn new baiting techniques effective with circle hooks.

This proposed rule would suspend existing Atlantic billfish tournament circle hook regulations until January 1, 2008, providing approximately seven months for anglers to learn fishing and baiting techniques appropriate for Atlantic billfishes prior to re-implementation of tournament circle hook requirements. As discussed above, NMFS is confident that the provision of additional time for anglers to adjust to circle hook fishing and baiting techniques will help assuage the concerns of anglers and lead to increased compliance with circle hook requirements.

As of January 29, 2007, the potential universe of affected anglers includes: 24,664 HMS Angling category permit holders; 4,140 HMS Charter/Headboat category permit holders, and 4,345 General Category permit holders. All of the aforementioned permit holders are eligible to participate in registered Atlantic HMS tournaments.

This proposed rule would be expected to have limited short-term adverse ecological impacts as it would temporarily suspend billfish tournament non-offset circle hook requirements for a limited period of time; approximately seven months (May 15 - December 31). This may result in temporary increases in injuries and post-release mortalities for species with which Atlantic billfish fishermen interact. Tournament catch data indicate that tournament interactions with billfish decline to relatively low levels during the last quarter of the year (October - December), with the exception being blue marlin in Puerto Rico. An examination of the tournament catch data indicate that the preferred alternative could result in approximately 317 additional Atlantic white marlin mortalities as a result of J-hook use instead of circle hook use in tournaments. As NMFS cannot quantify the proportion of anglers who may continue to use non-offset circle hooks in billfish tournaments, this estimate assumes all billfish tournament anglers will deploy J-hooks for the period May 15, 2007 - December 31, 2007. NMFS is unable to quantify relative changes in mortality for Atlantic blue marlin or sailfish because of a lack of data regarding post-release survival of these species. NMFS recognizes that some unquantifiable proportion of billfish tournament anglers will continue to use circle hooks. As a result, the actual number of additional Atlantic white marlin mortalities resulting from J-hook use in tournaments may be lower than the estimate provided above.

The preferred alternative that would suspend billfish tournament circle hook requirements and allow the use of J-hooks on natural baits is not anticipated to increase fishing effort in any measurable way because no decrease in effort was anticipated when tournament circle hook requirements went into effect. Based on the pace of 2007 tournament registrations, no decrease has been identified, and in fact, tournament registrations for 2007 have been received at a near record pace. It is also not anticipated to result in increased interactions with protected resources. NMFS has received one anecdotal report of such an interaction in HMS recreational fisheries since late 2002. Thus, interactions between the directed Atlantic billfish fishery and protected species appear to be extremely rare. Further, if the proposed rule results in improved long term compliance with circle hook requirements, as anticipated, it may also contribute to a long-term reduction in interactions, injuries, and mortalities of protected resources, and other species with which billfish tournament fishermen interact as a result of hooking mechanics, improved hooking location, and decreased damage of vital tissues generally associated with the use of circle hooks.

Should anglers better accept and comply with tournament circle hook restrictions in the long-term as anticipated, NMFS believes that there could be an unquantifiable long-term ecological benefit stemming from increased use of circle hooks both in tournaments and outside of tournaments. The non-tournament ecological benefit may accrue as non-tournament anglers frequently view tournament anglers as innovative leaders and seek to emulate their successful fishing techniques. NMFS believes that this pattern of non-tournament anglers emulating the fishing techniques of successful tournament anglers will hold true with the adoption of circle hooks by tournament anglers as well.

Under the proposed measure, NMFS anticipates minimal social or economic impacts. Atlantic billfish anglers likely already possess both circle hooks and J-hooks, and the proposed measure is not anticipated to affect angler participation in tournaments. However, there could be a minor temporary boost to angler's willingness to pay and/or angler consumer surplus based on the perceived ability to more readily catch Atlantic billfish on J-hooks. As stated above, any such changes would likely be so small as to be not measurable. Long-term positive impacts on angler's willingness to pay and/or angler consumer surplus are possible if increased acceptance of circle hooks in tournaments contributes to stock rebuilding and an increased abundance of Atlantic billfish in the future. This measure is proposed because it could lead to increased survival of released Atlantic billfish in the long-term by improving acceptance and compliance with recreational circle hook regulations, and thus contribute to rebuilding of these stocks.

Classification

This proposed rule is published under the authority of the Magnuson-Stevens Act and ATCA. NMFS has preliminarily determined that this action is consistent with section 304(b)(1) of the Magnuson-Stevens Act, including the national standards, and other applicable law.

An EA has been prepared that describes the impact on the human environment that could result from implementation of the preferred alternative to improve post-release survival of Atlantic billfishes by improving acceptance and compliance with tournament circle hook regulations. Based on the EA, Regulatory Impact Review (RIR), and Initial Regulatory Flexibility Analysis (IRFA) under the Regulatory Flexibility Act, and a review of the National Environmental Policy Act (NEPA) criteria for significance evaluated above (NAO 216-6 Section 6.02), no significant effect on the quality of the human environment is anticipated from this action.

This proposed rule has been determined to be not significant for purposes of Executive Order 12866. In compliance with Section 603 of the Regulatory Flexibility Act, an Initial Regulatory Flexibility Analysis was prepared for this rule. The IRFA analyzes the anticipated economic impacts of the preferred actions and any significant alternatives to the proposed rule that could minimize economic impacts on small entities. A summary of the IRFA is below. The full IRFA and analysis of economic and ecological impacts are available from NMFS (see ADDRESSES).

In compliance with Section 603(b)(1) and (2) of the Regulatory Flexibility Act, the purpose of this proposed rulemaking is, consistent with the Magnuson-Stevens Act and ATCA, to improve post-release survival of Atlantic billfishes by improving acceptance and compliance with tournament circle hook regulations. Section 603(b)(3) requires Agencies to provide an estimate of the number of small entities to which the rule would apply. The proposed actions to modify recreational billfish tournament circle hook regulations could directly affect 24,664 HMS Angling category permit holders; 4,140 HMS Charter/Headboat category permit holders; and 4,345 General Category permit holders. All of the aforementioned permit holders are eligible to participate in registered Atlantic HMS tournaments. Of these, 8,475 permit holders (the combined number of HMS Charter/Headboat category permit holders and General Category permit holders) are considered small business entities according to the Small Business Administration's standard for defining a small entity.

This proposed rule does not contain any new reporting, record keeping, or other compliance requirements (5 U.S.C. 603(c)(1)-(4)). Similarly, this proposed rule does not conflict, duplicate, or overlap with other relevant Federal rules (5 U.S.C. 603(b)(5).

One of the requirements of an IRFA, under Section 603 of the Regulatory flexibility Act, is to describe any alternatives to the proposed rule that accomplish the stated objectives and that minimize any significant economic impacts (5 U.S.C. 603(c)). Additionally, the Regulatory Flexibility Act (5 U.S.C. 603 (c)(1)-(4)) lists four categories for alternatives that must be considered. These categories are: (1) establishment of differing compliance or reporting requirements or timetables that take into account the resources available to small entities; (2) clarification, consolidation, or simplification of compliance and reporting requirements under the rule for such small entities; (3) use of performance rather than design standards; and (4) exemptions from coverage for small entities.

In order to meet the objectives of this proposed rule, consistent with the Magnuson-Stevens Act, ATCA, and the Endangered Species Act (ESA), NMFS cannot exempt small entities or change the reporting requirements only for small entities. Thus, there are no alternatives that fall under the first and fourth categories described above. In addition, none of the alternatives considered would result in additional reporting or compliance requirements (category two above). NMFS does not know of any performance or design standards that would satisfy the aforementioned objectives of this rulemaking while, concurrently, complying with the Magnuson-Stevens Act.

NMFS considered three different alternatives to increase post-release survival of Atlantic billfishes by improving long-term compliance with circle hook regulations. As previously described, and as expanded upon below, NMFS has provided justification for the selection of the preferred alternative to achieve the desired objectives.

Alternative 1 is the no action, or status quo alternative. Under current regulations, anglers fishing from an HMS permitted vessel and participating in an Atlantic billfish tournament must use only non-offset circle hooks when deploying natural bait or natural bait/artificial lure combinations. Under alternative 1, there would be no change in the existing regulations, and as such no change is anticipated in the current baseline economic and social impacts associated with the status quo alternative. This alternative is not preferred because other alternatives may allow for a greater long-term conservation benefit for Atlantic billfish by potentially achieving better acceptance of, and compliance with, tournament circle hook requirements.

Under alternative 2, existing Atlantic billfish tournament circle hook requirements, as described in the discussion of alternative 1 above, would be temporarily suspended through December 31, 2007. Current Atlantic billfish tournament circle hook requirements would be reinstated unchanged at 12:01 am January 1, 2008. This alternative would provide roughly seven additional months for anglers to become familiar and proficient with circle hooks as well as better understand their benefits. NMFS anticipates that tournament anglers will practice with circle hooks outside of tournaments during the suspension to gain proficiency with circle hooks to improve their chances of winning prize money in tournaments upon re-implementation of the circle hook requirement in 2008. Motivation for anglers to do so includes vying for top tournament prizes, which in the largest tournaments have exceeded one million dollars for a winning fish. Anglers who have not gained substantial expertise with circle hooks will have a diminished chance of catching a prize winning fish.

NMFS has received input from numerous anglers and tournament operators who voluntarily switched to using circle hooks prior to the existing tournament requirement who now indicate a strong preference for circle hooks over J-hooks based on conservation benefits and who claim a lower rate of lost fish on circle hooks. Based on the economic incentives discussed above, the input from experienced billfish anglers who have acquired expertise with circle hooks, and existing studies (Prince et al., 2002) indicating that hook type (circle hook vs. J-hook) is not a significant factor in catchability of Atlantic blue marlin, NMFS is confident that the concerns of anglers regarding the effectiveness of circle hooks for catching blue marlin and the resistance to using circle hooks stemming from preconceived ideas of circle hook efficacy and a lack of experience with circle hooks will be overcome if anglers are given more time to become familiar and proficient with them through an additional phase-in period. NMFS believes that in the long-term, the additional time provided to anglers to become more familiar and proficient with circle hooks may lead to higher levels of compliance with circle-hook requirements and increased use of circle hooks outside of tournaments thereby providing an increased conservation benefit for Atlantic billfish in the long-term.

NMFS estimates that there will be few or no measurable social or economic impacts resulting from the preferred alternative. However, it is possible that the temporary suspension of billfish tournament circle hook requirements may provide for a short-term increase in angler's willingness to pay based on the perception among many anglers that it is easier to catch a billfish with a J-hooks than a circle hook. Nonetheless, based in part on recent high levels of tournament registrations for 2007 occurring under circle hook requirements, NMFS does not anticipate any measurable change in billfish tournament participation, increases in purchases of fuel or dockage, or other shore-side services. Should alternative 2 result in an increased ecological benefit, there could be a long-term gain in angler's willingness to pay if billfish stocks recover and interactions with billfish increase.

NMFS does not anticipate that alternative 2 would result in additional expenditures to comply with the proposed regulations. Relative to expenditures that can quickly reach into the hundreds of thousands of dollars, or more, to purchase, equip, maintain, and fuel sportfishing vessels, hook expenditures are negligible. The FCHMS FMP identifies hook prices as ranging from $0.50 to $7.50 ($2.70 average) each for J-hooks and from $0.30 to $7.00 ($2.24 average) each for circle hooks (2006 dollars). Tournament anglers likely already possess circle hooks which have been required since January 1, 2007, and which would be required upon reinstatement of existing requirements on January 1, 2008, under the preferred alternative. Further, existing regulations allow anglers to use J-hooks on artificial lures in tournaments and do not require anglers to utilize circle hooks outside of tournaments; because of this, anglers most likely already possess J-hooks, should they choose to stop using circle hooks in tournaments. Alternative 2 does not mandate any particular terminal tackle, so anglers would be free to use any hook type, circle or J, available and which they already possess, which would further minimizing any potential compliance costs.

Alternative 3, would remove Atlantic billfish tournament circle hook requirements and promote voluntary use of circle hooks by tournament anglers, and would be expected to have minimal impacts on businesses. Minor economic impacts would be incurred by those tournaments that choose to reprint tournament rules for distribution. Alternative 3 could result in minor short-term increases in angler-consumer surplus and/or willingness to pay, as anglers may perceive that their short-term catch rates of Atlantic billfish may increase with the use of J-hooks. However, alternative 3 would not be expected to increase angler consumer surplus or willingness to pay in the long-term as it would result in an increase in post-release hooking mortality and thus be less likely to contribute to rebuilding of Atlantic billfish populations.

List of Subjects in 50 CFR Part 635

Fish, Fisheries, Fishing, Fishing vessels, Management.

Dated: March 9, 2007.
William T. Hogarth,
Assistant Administrator for Fisheries, National Marine Fisheries Service.

For reasons set out in the preamble, 50 CFR part 635 is proposed to be amended as follows:

PART 635—ATLANTIC HIGHLY MIGRATORY SPECIES

1. The authority citation for part 635 continues to read as follows:

Authority: 16 U.S.C. 971 et seq.; 16 U.S.C. 1801 et seq.

2. In § 635.21, paragraph (e)(2)(iii) is revised to read as follows:

§ 635.21 Gear operation and deployment restrictions.

* * * * *

(e)* * *

(2)* * *

(iii) After December 31, 2007, persons who have been issued or are required to be issued a permit under this part and who are participating in a “tournament”, as defined in 635.2, that bestows points, prizes, or awards for Atlantic billfish must deploy only non-offset circle hooks when using natural bait or natural bait/artificial lure combinations, and may not deploy a J-hook or an offset circle hook in combination with natural bait or a natural bait/artificial lure combination.

* * * * *

[FR Doc. 07-1216 Filed 3-12-07; 2:43 pm]

BILLING CODE 3510-22-S